DEPARTMENT OF ENERGY

Federal Energy Regulatory Commission

Combined Notice of Filings #1

September 19, 2005.

Take notice that the Commission received the following electric rate filings:

Docket Numbers: ER02-2330-038.

Applicants: ISO New England, Inc.

Description: ISO New England, Inc submits its Twelfth Quarterly Status Report concerning implementation of the proposed Standard Market design.

Filed Date: 09/12/2005.

Accession Number: 20050915-0007.

Comment Date: 5 p.m. eastern time on Monday, October 03, 2005.

Docket Numbers: ER05-1221-001.

Applicants: Commonwealth Edison Company.

Description: Commonwealth Edison Co. requests that FERC defer its consideration of the 7/15/05 Transmission Interconnection Agreement filing pending the refiling of the agreement with PJM Interconnection's signature.

Filed Date: 09/12/2005.

Accession Number: 20050914-0084.

Comment Date: 5 p.m. eastern time on Monday, October 03, 2005.

Docket Numbers: ER04-1252-003.

Applicants: Midwest Independent Transmission System Operator, Inc.

Description: Midwest Independent Transmission System Operator, Inc. files proposed revisions to the Midwest ISO's Open Access Transmission & Energy Market Tariff, Third Revised Volume No. 1.

Filed Date: 09/12/2005.

Accession Number: 20050913-0139.

Comment Date: 5 p.m. eastern time on Monday, October 03, 2005.

Docket Numbers: ER05-1265-002.

Applicants: MidAmerican Energy Company.

Description: MidAmerican Energy Co. provides additional clarification regarding the reasons for making the amendments to MidAmerican Rate Schedule No. 19.

Filed Date: 09/09/2005.

Accession Number: 20050913-0142.

Comment Date: 5 p.m. eastern time on Friday, September 30, 2005.

Docket Numbers: ER05-1282-001.

Applicants: Storm Lake Power Partners I, LLC.

Description: Storm Lake Power Partners I, LLC submits an amendment to its pending market-based rate schedule submittal to make correction to its proposed tariff, by replacing its Rate Schedule FERC No. 1 with original Volume No. 1.

Filed Date: 09/12/2005.

Accession Number: 20050914-0089.

Comment Date: 5 p.m. eastern time on Monday, October 03, 2005.

Docket Numbers: ER05-1460-000.

Applicants: Mitchell Electric Membership Corporation.

Description: Mitchell Electric Membership Corp. advises that due to amendments to section 201(f) of the Federal Power Act, it is no longer a public utility.

Filed Date: 09/08/2005.

Accession Number: 20050913-0009.

Comment Date: 5 p.m. eastern time on Thursday, September 29, 2005.

Docket Numbers: ER05-1474-000.

Applicants: PJM Interconnection L.L.C.

Description: PJM Interconnection, LLC submits an executed interconnection service agreement among PJM, Lancaster Wind Farm, LLC & Commonwealth Edison Co.

Filed Date: 09/12/2005.

Accession Number: 20050913-0133.

Comment Date: 5 p.m. eastern time on Monday, October 03, 2005.

Docket Numbers: ER05-1475-000.

Applicants: Midwest Independent Transmission System Operator.

Description: Midwest Independent Transmission System Operator, Inc. submits proposed revisions to the Midwest ISO's Open Access Transmission & Energy Markets Tariff, Third Revised Volume No.1.

Filed Date: 09/12/2005.

Accession Number: 20050913-0132.

Comment Date: 5 p.m. eastern time on Monday, October 03, 2005.

Docket Numbers: ER05-1477-000.

Applicants: Access Energy Cooperative.

Description: Access Energy Cooperative advises that due to amendments to section 201(f) of the Federal Power Act, it is no longer a public utility.

Filed Date: 08/18/2005.

Accession Number: 20050819-0082.

Comment Date: 5 p.m. eastern time on Thursday, September 29, 2005.

Docket Numbers: ER05-1478-000.

Applicants: North Central Missouri Electric Cooperative, Inc.

Description: North Central Missouri Electric Cooperative, Inc. advises that due to amendments to section 201(f) of the Federal Power Act, it is no longer a public utility.

Filed Date: 08/18/2005.

Accession Number: 20050819-0083.

Comment Date: 5 p.m. eastern time on Thursday, September 29, 2005.

Docket Numbers: ER05-1479-000.

Applicants: Florida Keys Electric Cooperative Association, Inc.

Description: Florida Keys Electric Cooperative Association, Inc. advises that due to amendments to section 201(f) of the Federal Power Act, it is no longer a public utility.

Filed Date: 08/18/2005.

Accession Number: 20050819-0084.

Comment Date: 5 p.m. eastern time on Thursday, September 29, 2005.

Docket Numbers: ER05-795-002.

Applicants: ISO New England, Inc., and New England Power Pool.

Description: ISO New England, Inc. and New England Power Pool (NEPOOL) Participants Committee jointly submit a compliance filing relating to modifications to Phase I of the Ancillary Services Market Project.

Filed Date: 09/12/2005.

Accession Number: 20050914-0083.

Comment Date: 5 p.m. eastern time on Monday, October 03, 2005.

Docket Numbers: ER05-980-002.

Applicants: American Transmission Systems, Incorporated.

Description: American Transmission Systems Incorporated submits an amended construction agreement to establish a new 138 kV delivery point with Buckeye Power Inc. and Holmes-Wayne Electric Coop. dated 2/28/05.

Filed Date: 09/12/2005.

Accession Number: 20050913-0140.

Comment Date: 5 p.m. eastern time on Monday, October 03, 2005.

Docket Numbers: ER05-989-001.

Applicants: Southwest Power Pool, Inc.

Description: Southwest Power Pool, Inc. submits the Amendatory Agreement No. 4 to the Municipal Participation Agreement between Kansas City Power & Light Co and the City of Garnett, Kansas.

Filed Date: 09/12/2005.

Accession Number: 20050915-0006.

Comment Date: 5 p.m. eastern time on Monday, October 03, 2005.

Any person desiring to intervene or to protest in any of the above proceedings must file in accordance with Rules 211 and 214 of the Commission's Rules of Practice and Procedure (18 CFR 385.211 and § 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Magalie R. Salas,
Secretary.

[FR Doc. E5-5242 Filed 9-27-05; 8:45 am]

BILLING CODE 6717-01-P